DEPARTMENT OF TRANSPORTATION

Federal Motor Carrier Safety Administration

[Docket No. FMCSA-2006-26367]

Announcement of Renewal of the Motor Carrier Safety Advisory Committee Charter; Request for Nominations

AGENCY: Federal Motor Carrier Safety Administration (FMCSA), DOT.

ACTION: Notice of renewal of advisory committee charter and reappointment of members; request for member nominations.

SUMMARY: FMCSA announces the renewal of the charter for its Motor Carrier Safety Advisory Committee (MCSAC) and the reappointment of 13 of the 15 original members of the Committee, and solicits nominations for interested persons in the safety enforcement community to serve on the Committee. The MCSAC was mandated by the Safe, Accountable, Flexible, Efficient Transportation Equity Act: A Legacy for Users, Public Law 109-59; established on September 8, 2006; and, renewed on September 8, 2008. The Committee is charged with providing advice and recommendations to the FMCSA Administrator on the needs, objectives, plans, approaches, content, and accomplishments of Federal motor carrier safety programs and Federal motor carrier safety regulations.

DATES: Nominations for the MCSAC must be received on or before December 4, 2008.

FOR FURTHER INFORMATION CONTACT: Mr. Jeffrey Miller, Chief, Strategic Planning and Program Evaluation Division, Office of Policy Plans and Regulation, (202) 366-1258, Federal Motor Carrier Safety Administration, 1200 New Jersey Avenue, SE., Washington, DC 20590-0001.

SUPPLEMENTARY INFORMATION:

I. Background

Section 4144 of the Safe, Accountable, Flexible, Efficient Transportation Equity Act: A Legacy for Users (SAFETEA-LU) (Pub. L. 109-59, August 10, 2005), required the Secretary to establish the MCSAC. The Committee provides advice and recommendations to the Administrator of FMCSA on the needs, objectives, plans, approaches, content, and accomplishments of motor carrier safety programs and motor carrier safety regulations. The Committee may be comprised of up to 20 members appointed by the Administrator for up to two-year terms. They are selected from among individuals who are not employees of FMCSA and who are specially qualified to serve on the Committee based on their education, training, or experience. The members include representatives of the motor carrier industry, safety advocates, and safety enforcement officials. Representatives of a single enumerated interest group may not constitute a majority of the Committee members. The Administrator designates a chairman of the Committee from among the members. Committee members must not be officers or employees of the Federal Government and will serve without pay. The Administrator may allow a member, when attending meetings of the Committee or a subcommittee, reimbursement of expenses authorized under Section 5703 of Title 5, United States Code and the Federal Travel Regulation, 41 CFR Part 301, relating to per diem, travel and transportation. FMCSA anticipates calling Committee meetings at least four times each year. Meetings will be open to the general public, except as provided under the Federal Advisory Committee Act (5 U.S.C. App. 2). Notice of each meeting will be published in the Federal Register at least 15 calendar days prior to the date of the meeting.

On March 5, 2007, the Administrator appointed motor carrier sector representatives John M. Bauer (Kohl's Corporation), Clyde J. Hart (American Bus Association), David J. Osiecki (American Trucking Associations), Robert G. Petrancosta (Conway Freight), J. Todd Spencer (Owner Operators Independent Drivers Association); safety advocacy representatives Michael T. Irwin (Michigan Center for Truck Safety), Stephen C. Owings (Road Safe America), David R. Parker (Great West Casualty Company), Lester B. Sokolowski (National Safety Council), Judith Lee Stone (Advocates for Highway and Auto Safety); and safety enforcement representatives Michael Greene (Columbia Machine Works, Incorporated), Lt. Colonel Terry L. Maple (Kansas Highway Patrol), Captain Robert R. Powers (Michigan State Police), Karen Sain (North Carolina Highway Patrol), and Roger Vanderpool (Arizona Department of Public Safety) to the Committee. Their terms expired on September 30, 2008.

On October 1, 2008, the Administrator reappointed motor carrier sector representatives John M. Bauer, Clyde J. Hart, David J. Osiecki, Robert G. Petrancosta, J. Todd Spencer; safety advocacy representatives Michael T. Irwin, Stephen C. Owings, David R. Parker, Lester B. Sokolowski, Judith Lee Stone; and, safety enforcement representatives Lt. Colonel Terry L. Maple, Captain Robert R. Powers, and Roger Vanderpool, for two-year terms, ending September 30, 2010.

II. Motor Carrier Safety Advisory Committee Charter [This is the Text of the Charter That the Department of Transportation Filed With the General Services Administration on September 8, 2008.]

1. Purpose: This charter renews the Motor Carrier Safety Advisory Committee and provides for its operation in accordance with provisions of the Federal Advisory Committee Act (FACA), as amended (5 U.S.C.); 41 CFR Part 102-3; DOT Order 1120.3B; and Section 4144 of the Safe, Accountable, Flexible, Efficient Transportation Equity Act: A Legacy for Users, Pub. L. 109-59. The charter also sets forth the principles governing the committee's operation.

2. Scope and Objectives: The committee will provide advice and recommendations to the Administrator of the Federal Motor Carrier Safety Administration (FMCSA) on motor carrier safety programs and motor carrier safety regulations.

3. Duties: The members of the committee shall:

a. Attend committee meetings.

b. Gather information as necessary to discuss issues presented by the Designated Federal Official (DFO).

c. Deliberate.

d. Provide written consensus advice to the Administrator.

4. Support: The Administrator shall provide support staff for the committee. On request of the committee, the Administrator shall provide information, administrative services, and supplies that the Administrator considers necessary for the committee to carry out its duties and powers. The FMCSA's Strategic Planning and Program Evaluation Division shall furnish support services for the operation of the committee.

5. Designated Federal Officer and Sponsor: The DFO for the committee and its subcommittees is FMCSA's Associate Administrator for Policy and Program Development or his or her designee. The DFO shall designate an independent facilitator for advisory committee meetings. The committee sponsor is FMCSA's Director for the Office of Policy Plans and Regulation, or his or her designee.

6. Cost: The annual operating costs associated with the committee's functions are estimated to be $150,000 including all direct and indirect expenses. We estimate that .25 part-time equivalent positions will be required to support the committee.

7. Membership: The committee shall be comprised of up to 20 members (special government employees and/or representatives) appointed by the Administrator for up to two-year terms. Members serve at the pleasure of the Administrator, subject to their stated terms. Members may be reappointed to one or more consecutive terms. Members will be selected from among individuals who are not employees of FMCSA and who are specially qualified to serve on the committee based on their education, training, or experience. The members shall include representatives of the motor carrier industry, safety advocates, and safety enforcement officials. Representatives of a single enumerated interest group may not constitute a majority of the committee. Members may continue to serve until appointment of their replacements.

8. Officers: The Administrator shall designate a chairman among members of the committee.

9. Organization: The chairman may recommend subcommittees subject to approval of the Agency. Subcommittees will be established for limited purposes within the scope and objectives of the full committee. The chairman of any subcommittee shall be a member of the full committee and shall be appointed by the full committee chairman with the approval of the DFO. Members of a subcommittee may be appointed from any source by the full committee chairman with the approval of the DFO. Members of a subcommittee do not become members of the full committee and are not eligible for expenses under item 10 of this charter. Subcommittees will submit all recommendations only to the full committee. Subcommittees may be terminated by the full committee chairman, subject to approval by the DFO.

10. Compensation for Members: Committee members are not officers or employees of the Federal Government and shall serve without pay; except that the Administrator may allow a member, when attending meetings of the committee or a subcommittee, reimbursement of expenses authorized under Section 5703 of Title 5, United States Code, and the Federal Travel Regulation, 41 CFR Part 301, relating to per diem, travel, and transportation. All travel by individual members when engaged in official committee business shall be approved in advance by the DFO, and arranged and funded by the sponsor.

11. Meetings: The DFO anticipates calling committee meetings at least four times each year. The agenda for all meetings shall be set by the DFO. Meetings shall be open to the general public, except as provided under FACA. Notice of each meeting shall be published in the Federal Register at least 15 calendar days prior to the date of the meeting. Notice shall include the meeting agenda. The DFO or his or her designee shall attend and preside at each meeting. The DFO or his or her designee shall adjourn any meeting when determined to be in the public interest. Detailed minutes of each meeting shall be certified by the DFO or his or her designee and maintained by the sponsor. The minutes, as certified, shall be available for public inspection and copying in the office of the sponsor.

12. Reports: All committee and subcommittee reports and recommendations shall be submitted by the chairman to FMCSA's Administrator through the DFO or his or her designee. The DFO or his or her designee shall direct the committee to prepare such documents and any other reports. Within 60 days following the last meeting of each fiscal year, the DFO or his or her designee shall submit to FMCSA's Administrator an annual report describing the committee's membership, activities, and accomplishments for the year. Committee and subcommittee reports and other documents, which are made available to or prepared by the committee, shall be included in FMCSA's public docket and shall be available for public inspection and copying in accordance with the Freedom of Information Act (5 U.S.C. 552).

13. Date of Termination: The committee shall terminate on September 30, 2010.

14. Charter Filing Date: The filing date of this charter is September 8, 2008, which is also the charter's effective date. The Motor Carrier Safety Advisory Committee will terminate two years after this date unless prior to that time the charter is extended in accordance with the FACA and other applicable requirements.

III. Request for Nominations

FMCSA seeks nominations for membership to MCSAC from representatives of the safety enforcement sector with specialized experience, education, or training in commercial motor vehicle issues; there are two vacancies. The Agency is committed to appointing members to the Committee with diverse professional backgrounds, as well as a broad array of gender, ethnicity, demographic, and socioeconomic factors. All Committee members must be able to attend three to four meetings each year in Washington, DC, or by teleconference, and spend approximately five to six hours each month providing additional consultation. Interested persons should have a commitment to transportation safety, knowledge of transportation issues, experience on panels that deal with transportation safety and a record of collaboration and professional experience in commercial motor vehicle issues.

For nomination information or a nomination application, please contact Karen Lynch at 202-366-8997, or by e-mail at Karen.Lynch@dot.gov. Nominations must be received on or before December 4, 2008.

Issued on: November 7, 2008.
Rose A. McMurray,
Chief Safety Officer, Assistant Administrator.

[FR Doc. E8-27385 Filed 11-18-08; 8:45 am]

BILLING CODE 4910-EX-P